SECURITIES AND EXCHANGE COMMISSION

[File No. 500-1]

Broadengate Systems, Inc., (n/k/a Otter Lake Resources, Inc.); Order of Suspension of Trading

May 14, 2010.

It appears to the Securities and Exchange Commission that there is a lack of current and accurate information concerning the securities of Broadengate Systems, Inc. (n/k/a Otter Lake Resources, Inc.) because it has not filed any periodic reports since the period ended September 30, 2002.

The Commission is of the opinion that the public interest and the protection of investors require a suspension of trading in the securities of the above-listed company. Therefore, it is ordered, pursuant to Section 12(k) of the Securities Exchange Act of 1934, that trading in the securities of the above-listed company is suspended for the period from 9:30 a.m. EDT on May 14, 2010 and terminating at 11:59 p.m. EDT on May 27, 2010.

By the Commission.
Jill M. Peterson,
Assistant Secretary.

[FR Doc. 2010-11953 Filed 5-14-10; 11:15 am]

BILLING CODE 8011-01-P